DEPARTMENT OF THE INTERIOR

Bureau of Land Management

[15X LLIDB00100 LF1000000.HT0000 LXSS020D0000 241A 4500085770]

Temporary Road Closure on Public Lands in Owyhee County, ID

AGENCY: Bureau of Land Management, Interior.

ACTION: Notice.

SUMMARY: Notice is hereby given that the Celebration Fire 2-year temporary road closure is in effect on public lands administered by the Morley Nelson Snake River Birds of Prey National Conservation Area (NCA). One mile of road will be closed to motorized vehicle traffic to protect sensitive resources.

DATES: This closure will be in effect on April 22, 2016 and will remain in effect until April 23, 2018, unless otherwise rescinded or modified by the authorized officer or designated Federal officer.

FOR FURTHER INFORMATION CONTACT: Tate Fischer, Four Rivers Field Office Manager at 3948 Development Ave., Boise, Idaho, 83705, via email at tfischer@blm.gov or phone 208-384-3300. Persons who use a telecommunications device for the deaf (TDD) may call the Federal Information Relay Service (FIRS) at 1-800-877-8339 to contact Mr. Fischer. The FIRS is available 24 hours a day, seven days a week, to leave a message or question with Mr. Fischer. You will receive a reply during normal business hours.

SUPPLEMENTARY INFORMATION: The Celebration Fire temporary closure affects a 1-mile road segment that crosses public lands located in Owyhee County, Idaho, approximately 5 miles northeast of Murphy, which burned June 6-9, 2015. The road affected by this temporary closure is found in:

Boise Meridian, Idaho

T. 2 S., R. 1 W.,

Sections 5 and 6.

The road is shown on the map named, “Celebration Fire Temporary Road Closure.” The Celebration Fire temporary road closure, which affects approximately 1 mile of road, is necessary to protect sensitive resources, which, with the removal of vegetation, are now susceptible to damage. The Snake River Birds of Prey National Conservation Area (NCA) Resource Management Plan designated the area impacted by the fire as “Limited to existing roads and trails.” The temporary road closure will remain effective until April 23, 2018, unless otherwise rescinded or modified by the authorized officer or designated Federal officer. The BLM will post temporary closure signs at the main entry point of the closed road. This notice, maps of the affected area, and associated documents will also be posted in the Boise District BLM Office, 3948 Development Avenue, Boise, Idaho, 83705, and the Owyhee Field Office, 20 First Avenue West, Marsing, Idaho, 83639.

National Environmental Policy Act (NEPA)

The effects of the temporary road closure are described in the Boise Normal Fire Rehabilitation and Stabilization Environmental Assessment (#ID-090-2004-050-EA), and the specific proposal was analyzed in Determination of NEPA Adequacy, (#DOI-BLM-ID-B011-2015-0006-DNA), signed on September 16, 2015. The BLM has placed the EA and the Finding of No Significant Impact on file in the BLM Administrative Record at the address specified in the ADDRESSES section listed above.

Under the authority of Section 303(a) of the Federal Land Policy and Management Act of 1976 (43 U.S.C. 1733(a)), 43 CFR 8360.0-7, and 43 CFR 8364.1, the BLM will enforce the following rule within the Celebration Fire Temporary Road Closure order:

Motorized vehicles must not be used on the closed road segment.

Exemptions: The following persons are exempt from this order: Federal, State, and local officers and employees in the performance of their official duties; members of organized rescue or fire-fighting forces in the performance of their official duties; and entities with valid existing use authorizations, i.e. rights-of-way, leases and permits.

Penalties: Any person who violates this closure may be tried before a United States Magistrate and fined in accordance with 18 U.S.C. 3571, imprisoned no more than 12 months under 43 U.S.C. 1733(a) and 43 CFR 8360.0-7, or both. In accordance with 43 CFR 8365.1-7, State or local officials may also impose penalties for violations of Idaho law.

Authority: 43 CFR 8364.1.

Tate Fischer,
BLM Four Rivers Field Manager.

[FR Doc. 2016-09441 Filed 4-21-16; 8:45 am]

BILLING CODE 4310-GG-P